DEPARTMENT OF THE INTERIOR

National Park Service;

Statue of Liberty NM and Ellis Island, New York and New Jersey; Notice of Availability of Draft Environmental Impact Statement; Correction

SUMMARY: The Department published a notice in the Federal Register of June 25, 2003, concerning the availability of the Draft Environmental Impact Statement (DEIS) for Ellis Island. The notice contained an incorrect date.

FOR FURTHER INFORMATION CONTACT: Thomas Dyer (212) 825-8950.

Correction

In the Federal Register of June 25, 2003, Volume 68, Number 122, Page 37862, the last paragraph, first sentence regarding the last date for receipt of written comments should read:

Written comments may be sent to the Superintendent until September 12, 2003.

Dated: July 2, 2003.
Cynthia R. Garrett,
Acting Superintendent, Statue of Liberty NM and Ellis Island, Northeast Region, National Park Service.

[FR Doc. 03-18204 Filed 7-17-03; 8:45 am]

BILLING CODE 4310-GE-P